DEPARTMENT OF THE INTERIOR

Bureau of Land Management

[NM-030-1430-01; NMNM110627]

Notice of Realty Action; Recreation and Public Purpose (R&PP) Act Classification; New Mexico

AGENCY: Bureau of Land Management (BLM), Interior.

ACTION: Notice of realty action.

SUMMARY: The Bureau of Land Management (BLM) has examined and found suitable for classification for lease and subsequent conveyance under the provisions of the Recreation and Public Purposes (R&PP) Act, (43 U.S.C. 869, et seq.) as amended, approximately 34.38 acres of public land in Doña Ana County, New Mexico. The City of Las Cruces (City) proposes to use the land as a community park and related facilities.

DATES: Interested parties may submit written comments regarding the proposed land/conveyance or classification of the lands until June 18, 2007.

ADDRESSES: Send written comments to the District Manager, BLM Las Cruces District Office, 1800 Marquess, Las Cruces, New Mexico 88005.

FOR FURTHER INFORMATION CONTACT: Angel Mayes, Realty Specialist, at the above address or on (505) 525-4376.

SUPPLEMENTARY INFORMATION: The City filed an R&PP Act application for 34.38 acres of public land to be developed as a community park and related facilities. These related facilities include walking trails, plant identification plaques, shade structures, parking lots, picnic shelters, restrooms, play areas with play structures and landscape enhancements to complement the structures. The parcel of public land, located on the east mesa of the City of Las Cruces, is described as follows:

New Mexico Principal Meridian,

T. 23 S., R. 2 E.,

Section 4, lots 10 and 11, inclusive.

The area described contains 34.38 acres, more or less, in Doña Ana County. The land is not required for any Federal purpose. The lease/conveyance is consistent with the BLM Mimbres Resource Management Plan dated December 1993, and would be in the public interest. The lease/conveyance, when issued, will be subject to the provisions of the R&PP Act and applicable regulations of the Secretary of the Interior, and will contain the following reservations to the United States:

1. A reservation of a right-of-way thereon for ditches and canals constructed by the authority of the United States pursuant to the Act of August 30, 1890 (26 Stat. 391; 43 U.S.C. 945).

2. All minerals shall be reserved to the United States, together with the right to prospect for, mine and remove such deposits from the same under applicable law and such regulations as the Secretary of the Interior may prescribe, including all necessary access and exit rights.

3. The lease/conveyance will be subject to valid existing rights of record, including, but not limited to, those documented on the BLM public land records at the time of lease issuance.

Pursuant to the requirements established by section 120(h) of the Comprehensive Environmental Response, Compensation and Liability Act, (42 U.S.C. 9620(h) (CERCLA) as amended by the Superfund Amendments and Reauthorization Act of 1988, (100 Stat. 1670) notice is hereby given that the above-described lands have been examined and no evidence was found to indicate that any hazardous substances had been stored for one year or more, nor had any hazardous substances been disposed of or released on the subject property.

Detailed information concerning this proposed action, including, but not limited to documentation relating to compliance with applicable environmental and cultural resource laws, is available for review in the BLM, Las Cruces District Office at the address listed above.

On May 3, 2007, the above described land will be segregated from all other forms of appropriation under the public land laws, including the general mining laws, except for lease or conveyance under the R&PP Act, and leasing under the mineral leasing laws.

Classification Comments: Interested parties may submit comments involving the suitability of the land for a community park. Comments on the classification are restricted to whether the land is physically suited for the proposal, whether the use will maximize the future use or uses of the land, whether the uses are consistent with local planning and zoning, or if the uses are consistent with State and Federal programs.

Application Comments: Interested parties may submit comments regarding the specific use proposed in the application and plan of development, whether the BLM followed proper administrative procedures in reaching the decision, or any other factor not directly related to the suitability of the land for a community park and related facilities.

Before including your address, phone number, e-mail address, or other personal identifying information in your comment, be advised that your entire comment—including your personal identifying information—may be made publicly available at any time. While you can ask us in your comment to withhold from public review your personal identifying information. We cannot guarantee that we will be able to do so. Any adverse comments will be reviewed by the BLM, New Mexico State Director who may sustain, vacate, or modify this realty action. In the absence of any adverse comments, the classification will become effective on July 2, 2007. The land will be available for lease and subsequent conveyance until after the classification becomes effective.

(Authority: 43 CFR 2741.5)

Dated: March 9, 2007.
Edwin L. Roberson,
District Manager, Las Cruces.

[FR Doc. E7-8486 Filed 5-2-07; 8:45 am]

BILLING CODE 4310-VC-P